DEPARTMENT OF TRANSPORTATION

Federal Highway Administration

National Highway Traffic Safety Administration

[FHWA Docket no. FHWA-2014-0032]

Retrospective Regulatory Review—State Safety Plan Development and Reporting

AGENCY: Federal Highway Administration (FHWA), National Highway Traffic Safety Administration (NHTSA), Department of Transportation (DOT).

ACTION: Notice; request for comments.

SUMMARY: In accordance with Executive Order 13563, Improving Regulation and Regulatory Review, FHWA and NHTSA are evaluating their State highway safety plan development and reporting requirements. As part of this review, this notice requests comments on actions FHWA and NHTSA could take without statutory changes to better streamline and harmonize State highway safety plan development and reporting requirements.

DATES: Comments must be received on or before December 29, 2014.

ADDRESSES: Mail or hand deliver comments to the U.S. Department of Transportation, Dockets Management Facility, Room W12-140, 1200 New Jersey Avenue SE., Washington, DC 20590, or fax comments to (202) 493-2251. Alternatively, comments may be submitted to the Federal eRulemaking portal at http://www.regulations.gov. All comments must include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. Anyone is able to search the electronic form of all comments in any one of our dockets by the name of the individual submitting the comment (or signing the comment, if submitted on behalf of an association, business, or labor union). Anyone may review DOT's complete Privacy Act Statement in the Federal Register published on April 11, 2000 (Volume 65, Number 70, Pages 19477-78), or you may visit http://dms.dot.gov.

FOR FURTHER INFORMATION CONTACT: For questions about the program discussed herein, contact Melonie Barrington, FHWA Office of Safety, (202) 366-8029, or via email at Melonie.Barrington@dot.gov; or Barbara Sauers, NHTSA Office of Regional Operations and Program Delivery, (202) 366-0144, or via email at Barbara.Sauers@dot.gov. For legal questions, please contact William Winne, Attorney-Advisor, FHWA Office of the Chief Counsel, (202) 366-1397, or via email at William.winne@dot.gov; or Jin H. Kim, Attorney-Advisor, NHTSA Office of the Chief Counsel, (202) 366-1834, or via email at Jin.Kim@dot.gov. Business hours for the DOT are from 8:00 a.m. to 4:30 p.m., e.t., Monday through Friday, except Federal holidays.

SUPPLEMENTARY INFORMATION:

Electronic Access and Filing

You may submit or retrieve comments online through the Federal eRulemaking portal at: www.regulations.gov. The Web site is available 24 hours each day, 365 days each year. Electronic submission and retrieval help and guidelines are available under the help section of the Web site.

An electronic copy of this document may also be downloaded from Office of the Federal Register's Web site at: http://www.archives.gov/federal_register and the Government Printing Office's Web site at: http://www.gpoaccess.gov.

Background

On January 18, 2011, President Obama issued Executive Order 13563, which outlined a plan to improve regulation and regulatory review (76 FR 3821). Executive Order 13563 reaffirms and builds upon governing principles of contemporary regulatory review, including Executive Order 12866, Regulatory Planning and Review (58 FR 51735), by requiring Federal agencies to design cost-effective, evidence-based regulations that are compatible with economic growth, job creation, and competitiveness. The President's plan recognizes that these principles should not only guide the Federal government's approach to new regulations, but to existing ones as well. To that end, Executive Order 13563 requires agencies to retrospectively review existing significant rules to determine if they are outmoded, ineffective, insufficient, or excessively burdensome. Accordingly, FHWA and NHTSA are soliciting public comment on their State highway safety plan development and reporting requirements.

The FHWA's Highway Safety Improvement Program (HSIP) and NHTSA's State Highway Safety Grant Programs share a common goal—to save lives on our Nation's roadways—and have related performance goals and measures. These programs have complementary but distinctly different focus areas and administrative and operational procedures and requirements. The HSIP primarily addresses infrastructure-related projects and strategies. The NHTSA's Highway Safety Grant Programs focus on driver behavior projects and strategies. Both programs contribute to the goals and objectives of the Strategic Highway Safety Plan (SHSP), but they do so in different ways based on different statutory authority. One notable particular is that the statute governing the NHTSA grant program requires State highway safety activities to be under the direct auspices of the Governor, giving rise to unique issues, considerations, and responsibilities under that program.

The HSIP projects and State Highway Safety Plan (HSP) must be coordinated with the SHSP. The SHSP is a high level document that uses comprehensive, statewide data to establish safety goals and objectives, and emphasis areas. It is a multiyear strategic planning document, not an annual implementation plan of projects and strategies. It identifies the emphasis areas the State intends to pursue to reduce fatalities and serious injuries, but not the specific projects or strategies, timing, or funding.

The funding for individual project and strategy implementation is contained in the Statewide Transportation Improvement Program for the HSIP and the annual HSP for NHTSA's Highway Safety Grant Programs. Following the implementation period, the State then reports on progress to implement the projects and strategies and the extent to which they contribute to achieving the State's safety goals and targets.

The HSIP and NHTSA's Highway Safety Grant Programs were updated by the Moving Ahead for Progress in the 21st Century Act (MAP-21) (Pub. L. 112-141) ¹ and are the subject of several rulemakings.² Members of the public are encouraged to review those rulemakings and submit comments to the docket associated with each rulemaking.

¹ MAP-21 has been extended to May 31, 2015. A new surface transportation authorization may impact these rulemakings, including plan and reporting requirements.

² Highway Safety Improvement Program, Notice of Proposed Rulemaking, 79 FR 17464, March 28, 2014, Docket ID: FHWA-2013-0019; National Performance Management Measures: Highway Safety Improvement Program, Notice of Proposed Rulemaking, 79 FR 13846, March 11, 2014, Docket ID: FHWA-2013-0020; Uniform Procedures for State Highway Safety Grant Programs, Interim Final Rule, 78 FR 4986, January 23, 2013, Docket ID: NHTSA-2013-0001.

Purpose of This Notice

The FHWA recently published two NPRMs related to HSIP and NHTSA issued an interim final rule related to the Highway Safety Grant Programs in 2013. The Agencies are reviewing these programs from a Retrospective Regulatory Review perspective to explore ways to more proactively coordinate their highway safety programs. We are seeking input on actions FHWA and NHTSA could take to address potentially duplicative State highway safety planning and reporting requirements in order to streamline and harmonize these programs, to the extent possible in view of the separate statutory authority and focus of the two programs.

The FHWA and NHTSA are seeking comments from all interested parties to help evaluate potential future courses of action.

Questions

1. How do State offices currently collect and report data to FHWA and NHTSA? Are any elements of these information collections or reports duplicative? If yes, what are those duplicative requirements and are there ways to streamline them?

2. Are there changes FHWA and NHTSA should make to the HSIP and the HSP reporting processes to reduce burdens from duplicative reporting requirements, improve safety outcomes, and promote greater coordination among State agencies responsible for highway safety, consistent with the underlying statutory authority of these two grant programs?

3. Would States prefer to combine plans and reports for the HSIP and HSP into a single report for FHWA and NHTSA? Would States find a single report useful for these complementary but distinctly different programs?

4. Are there any State legal or organizational barriers to combining plans and reports for the HSIP and HSP to FHWA and NHTSA? To what extent does the location of the State recipient of the Federal funds from FHWA and NHTSA, within the State's organizational structure, add to or reduce the burdens of consolidated plan development or reporting?

5. Are there SHSP requirements with higher costs than benefits? If so, what are those requirements and are there ways to improve them or should they be eliminated?

6. Are there changes FHWA should make to the SHSP guidance to promote coordination among State agencies responsible for highway safety?

Dated: November 6, 2014.
Gregory G. Nadeau,
Acting Administrator, Federal Highway Administration.
David J. Friedman,
Deputy Administrator, National Highway Traffic Safety Administration.

[FR Doc. 2014-27271 Filed 11-26-14; 8:45 am]

BILLING CODE 4910-22-P